NATIONAL ARCHIVES AND RECORDS ADMINISTRATION

[NARA-2020-052]

Office of Government Information Services (OGIS) Annual Open Meeting

AGENCY: Office of Government Information Service (OGIS), National Archives and Records Administration (NARA).

ACTION: Office of Government Information Services (OGIS) annual open meeting.

SUMMARY: We are announcing OGIS's annual meeting, open to the public. The purpose of the meeting is to discuss OGIS's reviews and reports and allow interested people to appear and present oral or written statements, in accordance with the Freedom of Information Act (FOIA). DATES: The meeting will be on Monday, July 20, 2020, from 10:00 a.m. to 12:00 p.m. EDT. Please register no later than 11:59 p.m. EDT on Thursday, July 16, 2020.

ADDRESSES: This meeting will be held virtually due to the COVID-19 situation. We will email instructions on how to access the meeting to those who register according to instructions below.

FOR FURTHER INFORMATION CONTACT: Kirsten Mitchell by email at ogisopenmeeting@nara.gov or by telephone at 202.741.5770.

SUPPLEMENTARY INFORMATION: OGIS's 2020 Report for Fiscal Year 2019, published during Sunshine Week (March 15-21, 2020), summarizes OGIS's work, in accordance with FOIA, 5 U.S.C. 552(h)(4)(A). We will post meeting materials online at https://archives.gov/ogis/outreach-events/annual-public-meeting. You are invited to present oral or written statements at the meeting, in accordance with the FOIA at 5 U.S.C. 552(h)(6). You may submit written statements or questions for OGIS to consider before the meeting by emailing ogisopenmeeting@nara.gov. We will not answer questions about specific OGIS cases.

Procedures: This virtual meeting is open to the public. You must register through Eventbrite, https://ogis-annual-open-meeting-2020.evenbrite.com, if you wish to attend, and you must provide an email address so that we can provide you with access instructions for the online meeting. To request accommodations (e.g., a transcript), email ogis@nara.gov or call 202.741.5770. Members of the media who wish to register, those who are unable to register online, and those who require special accommodations, should contact Kirsten Mitchell (contact information listed above).

Kimberly Keravuori,
Federal Register Liaison.

[FR Doc. 2020-14178 Filed 6-30-20; 8:45 am]

BILLING CODE 7515-01-P